DEPARTMENT OF COMMERCE

National Oceanic and Atmospheric Administration

RIN 0648-XD192

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will hold meetings of the: Administrative Policy, Budget/Personnel, Sustainable Fisheries/Ecosystem, Mackerel, Reef Fish, Joint Shrimp/Artificial Reef/Habitat Protection, Shrimp, Red Drum and Data Collection Management Committees; and a meeting of the Full Council.

DATES: The Council meeting will be held from 8:30 a.m. on Monday, April 7 until 3:45 p.m. on Thursday, April 10, 2014.

ADDRESSES: Meeting address: The meeting will be held at the Embassy Suites located at 4914 Constitution Avenue, Baton Rouge, LA 70808; telephone: (225) 924-6566.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

Administrative Policy Committee Agenda, Monday, April 7, 2014, 8:30 a.m. Until 11 a.m.

1. Review and Approval of Regional Operating Agreement

2. Review of Draft Revised Administrative Handbook

3. Review of House Magnuson-Stevens Act Amendment

Budget/Personnel Committee Agenda, Monday, April 7, 2014, 11 a.m. Until 12 Noon

1. Review of CY 2014 Budget

Sustainable Fisheries/Ecosystem Committee Agenda, Monday April 7, 2014, 1:30 p.m. Until 2:30 p.m.

1. Discussion of Proposed SEDAR Stock Assessment Prioritization Process

2. Discussion of Framework Action—Define For-Hire Fishing in the Gulf of Mexico

3. SSC Update on ABC control rule revisions

Mackerel Management Committee Agenda, Monday, April 7, 2:30 p.m. Until 4:30 p.m.

1. Final Action on Mackerel Amendment 20B—Boundaries and Transit Provisions

2. Final Action on Framework Amendment 1 to Modify Spanish Mackerel ACL/ACT

3. Discussion of Cost-Benefit Analysis for CMP Amendment 24—Reallocation of Gulf King Mackerel and Atlantic Spanish Mackerel

Full Council—CLOSED SESSION, Monday, April 7, 2014, 4:30 p.m. Until 5:30 p.m.

1. Discussion of Appointments to the Socioeconomic Scientific and Statistical Committee

—Recess—

Reef Fish Management Committee Agenda, Tuesday, April 8, 2014, 8:30 a.m. Until 5:30 p.m.

1. Discussion of Red Snapper IFQ Modifications (potential Amendment 36)

2. Review of Amendment 40—Sector Separation Options Paper

3. Discussion of Framework Action—Modifications to IFQ Species Quotas

4. Review of Legal and Policy Aspects of Allocation

5. Discussion of Final Draft of Amendment 28—Red Snapper Allocation

6. Presentation on Cooperative SEAMAP Fishery-Independent Gulf-wide Sampling Methods and Information

7. Update on Progress of Joint South Florida Management Committee

8. Discussion on Exempted Fishing Permits Related to Reef Fish

Shrimp Management Committee Agenda, Wednesday, April 9, 2014, 8:30 a.m. Until 10 a.m.

1. Discussion of Texas Shrimp Closure for 2014

2. Review of Draft Options for Shrimp Amendment 16—Adjustment to ACL and Accountability Measures for Royal Red Shrimp

3. Discussion of Kemp's Ridley Stock Assessment

4. Review of the summary of the SSC Recommendations

5. Review of the March 5, 2014, Shrimp AP Summary

6. Discussion of Timeline for Shrimp Permit Moratorium

Red Drum Management Committee Agenda, Wednesday, April 9, 2014, 10 a.m. Until 10:30 a.m.

1. Report of the Red Drum Scientific and Statistical Committee Meeting

2. Review of the SEAMAP Red Drum Working Group Proceedings

Data Collection Management Committee Agenda, Wednesday, April 9, 2014, 10:30 a.m. Until 11 a.m.

1. Update on the Commercial Logbook Pilot Project

2. Development of a For-Hire Electronic Data Reporting Program: Outline of Priorities and Principles

Joint Shrimp/Artificial Reef/Habitat Protection Committee Agenda, Wednesday, April 9, 2014, 11 a.m. Until 11:15 a.m.

1. Summary of the Joint Shrimp/Ad Hoc Artificial Substrate Advisory Panel Meeting

—Recess—

Council Session Agenda, Wednesday, April 9, 2014, 11:15 a.m. Until 5:15 p.m.

11:15 a.m.-11:30 a.m.: Call to Order and Introductions, Adoption of Agenda and Approval of Minutes.

11:30 a.m.-12:15 p.m.: The Council will receive committee reports from the Budget/Personnel and Administrative Management Committees.

1:30 p.m.-4:30 p.m.: The Council will receive public testimony on Final Action—Joint Mackerel Amendment 20B—Boundaries and Transit Provisions, Final Action—Joint Framework Action to Increase Spanish Mackerel ACL, and Final Draft—Reef Fish Amendment 28—Red Snapper Allocation. The Council will also hold an open public comment period regarding any other fishery issues or concerns. People wishing to speak before the Council should complete a public comment card prior to the comment period.

4:30 p.m.-4:45 p.m.: The Council will review and vote on Exempted Fishing Permits (EFP), if any.

4:45 p.m.-5:15 p.m.: The Council will receive committee reports from the Red Drum and Joint Shrimp/Artificial Reef/Habitat Protection Management Committees.

Council Session Agenda, Thursday, April 10, 2014, 8:30 a.m. Until 3:45 p.m.

8:30 a.m.-3:15 p.m.: The Council will continue to receive committee reports from the Reef Fish, Data Collection, Shrimp, Sustainable Fisheries/Ecosystem, and Mackerel Management Committees.

3:15 p.m.-3:45 p.m.: The Council will review Other Business items: Discussion on the RESTORE Act.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: March 17, 2014.
Tracey L. Thompson,
Acting Deputy Director, Office of Sustainable Fisheries, National Marine Fisheries Service.

[FR Doc. 2014-06139 Filed 3-19-14; 8:45 am]

BILLING CODE 3510-22-P